FEDERAL COMMUNICATIONS COMMISSION

Notice of Public Information Collection(s) Being Reviewed by the Federal Communications Commission

March 13, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 20, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0957.

Title: Wireless Enhanced 911 Service, Fourth Memorandum Opinion and Order.

Form No.: N/A.

Type of Review: Extension of a currently approved collection.

Respondents: Individuals or households, business or other for-profit, not-for-profit institutions, and state, local or tribal government.

Number of Respondents: 2,500.

Estimated Time Per Response: 3 hours.

Frequency of Response: On occasion reporting requirement.

Total Annual Burden: 7,500 hours.

Total Annual Cost: N/A.

Needs and Uses: The Fourth Memorandum Opinion and Order (MO&O) responds to petitions for reconsideration of certain aspects of the Third Report and Order (R&O) in this proceeding concerning establishment of a nationwide wireless enhanced 911 emergency communications service. This decision revised, among other things, the deployment schedule that must be followed by wireless carriers that choose to implement E911 service using a handset-based technology. The public burden involves guidelines for filing successful requests for waiver of the E911 Phase II rules. The Commission will use the information submitted by petitioners to ensure that carriers comply with Phase II requirements in an orderly, timely, comprehensive fashion with no unnecessary delay.

OMB Control No.: 3060-0848.

Title: Deployment of Wireline Services Offering Advanced Telecommunications Capability, CC Docket No. 98-147.

Form No.: N/A.

Type of Review: Extension of a currently approved collection.

Respondents: Business or other for-profit

Number of Respondents: 1,700.

Estimated Time Per Response: .50-44 hours.

Frequency of Response: On occasion reporting requirements, and third party disclosure requirement.

Total Annual Burden: 162,800 hours.

Total Annual Cost: N/A.

Needs and Uses: The requirements implemented section 706 of the Communications Act of 1934, as amended, to promote deployment of advanced services without significantly degrading the performance of other services. All the requirements will be used by the Commission and CLECs to facilitate the deployment of advanced data services.

Federal Communications Commission.
Magalie Roman Salas,
Secretary.

[FR Doc. 01-6947 Filed 3-20-01; 8:45 am]

BILLING CODE 6712-01-P